DEPARTMENT OF AGRICULTURE

Animal and Plant Health Inspection Service

9 CFR Part 95

[Docket No. APHIS-2006-0113]

RIN 0579-AC11

Importation of Swine Hides and Skins, Bird Trophies, and Ruminant Hides and Skins

AGENCY: Animal and Plant Health Inspection Service, USDA.

ACTION: Final rule.

SUMMARY: We are amending the regulations governing the importation of animal byproducts to require that untanned swine hides and skins from regions with African swine fever and bird trophies from regions with exotic Newcastle disease meet certain requirements or go directly to an approved establishment upon importation into the United States. We are also setting out certain requirements for the importation of untanned bovine, deer, and other ruminant hides and skins into the United States from Mexico to prevent the spread of bovine babesiosis. These requirements will provide for the importation of these articles under conditions intended to prevent the introduction of African swine fever, bovine babesiosis, and exotic Newcastle disease.

DATES: Effective Date: January 14, 2010.

FOR FURTHER INFORMATION CONTACT: Dr. Tracye Butler, Senior Staff Veterinarian, Technical Trade Services, National Center for Import and Export, VS, APHIS, 4700 River Road Unit 39, Riverdale, MD 20737-1231; (301) 734-7476.

SUPPLEMENTARY INFORMATION:

Background

The regulations in 9 CFR parts 93, 94, 95, and 96 (referred to below as the regulations) govern the importation of certain animals, birds, poultry, meat, other animal products and byproducts, hay, and straw into the United States in order to prevent the introduction of various animal diseases, including rinderpest, foot-and-mouth disease (FMD), African swine fever (ASF), and exotic Newcastle disease (END). The regulations in § 95.5 set out requirements for the entry of untanned hides and skins. Section 95.6 sets out restrictions for those hides or skins that do not meet the requirements for entry in § 95.5.

On August 4, 2006, we published in the Federal Register (71 FR 44234-44239, Docket No. APHIS- 2006-0113) a proposal¹ to provide specific conditions under which untanned swine hides and skins from regions not considered free of ASF and bovine, deer and other ruminant hides and skins from Mexico could be imported into the United States in order to protect the U.S. livestock populations from incursions of ASF and bovine babesiosis. We also proposed to restrict the importation of bird trophies in order to protect U.S. bird populations against the introduction of END. For greater clarity, we also proposed to reorganize the provisions of § 95.5.

¹ To view the proposed rule and the comments we received, go to (http://www.regulations.gov/fdmspublic/component/main?main=DocketDetail&d=APHIS-2006-0113).

We solicited comments concerning our proposal for 60 days ending October 3, 2006. We received three comments by that date. They were from a representative of a consortium of scientific societies, a representative of a foreign government, and a private citizen. They are discussed below.

One commenter suggested that we prohibit all imports mentioned in this proposed rule, because, according to the commenter, neither our treatment and certification requirements nor our inspections are rigorous enough to prevent the introduction of disease.

The commenter did not provide specific information indicating how the proposed requirements or our inspection procedures were insufficient to prevent the introduction of ASF, bovine babesiosis, and END into the United States. Our existing requirements and inspection procedures have been effective in preventing the introduction of rinderpest and FMD, and we believe that the requirements of this rule will be effective in preventing the introduction of ASF, bovine babesiosis, and END into the United States.

One commenter pointed out an inconsistency between our explanation of the proposed regulations in the preamble of the proposed rule and the proposed regulatory text.

We proposed to revise § 95.5 by redesignating paragraphs (a) through (e), which contain general provisions to allow the importation of ruminant hides and skins, as paragraphs (a)(1) through (a)(5). To address the specific risk of infestation with ticks carrying bovine babesiosis, we proposed to allow the importation of ruminant hides and skins from Mexico under proposed paragraph (b)(1) if they are hard dried in accordance with proposed paragraph (a)(2); have been pickled in a solution of salt containing mineral acid which has a pH of less than or equal to 5 and placed in containers while wet in accordance with proposed paragraph (a)(4); have been treated with lime so as to have become dehaired and ready for preparation into rawhide products in accordance with proposed paragraph (a)(5); have been frozen solid for 24 hours; are certified to be free of ticks; or were taken from cattle subjected to a tickicidal dip prior to slaughter.

However, as the commenter correctly noted, the proposed regulatory text in paragraph (b)(1) incorrectly referred to subjecting ruminant hides or skins from Mexico to one of the treatments listed in proposed § 95.5(a)(2), (a)(3), or (a)(4); paragraph (a)(3) contains a certification process that does not address the risk associated with ticks. Accordingly, the regulatory text in § 95.5(b)(1) in this final rule refers to the treatments in paragraphs (a)(2), (a)(4), and (a)(5) of § 95.5.

We proposed to add paragraph (c) in § 95.5 to provide for the importation of bird trophies from END-free regions. Under this paragraph, bird trophies from END-free regions may be imported without further restriction if they are accompanied by a certificate of origin issued by the national government of the region of export.

One commenter suggested two changes to the manner in which the proposed rule addressed bird trophies.

The commenter’s first suggested change was to add a definition of “bird trophy” to the regulations in order to distinguish between bird carcasses or skins imported for ornamental or decorative display and those bird carcasses or skins imported for the purpose of research or display in a museum or educational institution. The commenter stated that adding such a definition to the regulations would help port inspectors to distinguish a bird trophy from research material.

We agree that defining “bird trophy” may make distinguishing a bird trophy from material of avian origin intended for research easier for all members of the public. Therefore, we are adding to the list of definitions in § 95.1 a definition of bird trophy. We define a bird trophy as “a carcass or part of a carcass of a wild bird taken as game during a hunting expedition for the purpose of processing into taxidermy mounts for personal exhibition.”

Although a bird trophy may be a carcass or part of a carcass, similar in appearance to material of avian origin intended for research, the additional requirements under our definition distinguish a bird trophy from other avian material: It must be a wild bird taken as game, obtained in a hunting expedition, or imported for the specific purpose of being processed through taxidermy methods for personal use.

Additionally, we believe that any confusion regarding the purpose of importation of avian material at the port of entry would be resolved by examining the accompanying permit or certificate. Such documentation would necessarily indicate the purpose and destination of the article.

We proposed to amend the introductory paragraph of § 95.5 to state that bird trophies may be imported into the United States without restriction if they meet the requirements of that section; if the bird trophies are imported from regions where END exists and thus do not meet the requirements of § 95.5, we proposed to require that they be handled at an approved establishment as set forth in § 95.6.

The commenter’s second suggested change to the proposed rule was to clarify that these requirements in part 95 are distinct from the requirements in 9 CFR part 94 that apply to the importation of carcasses and the parts or products of carcasses of poultry, game birds, or other birds from regions where END is considered to exist. The commenter acknowledged that with the assistance of APHIS, importers of avian material for research or educational purposes are aware of the differing requirements and that no confusion by these importers or inspectors at the port of entry exists. However, she was concerned that some entities may believe that the more stringent requirements regarding research material from END and highly pathogenic avian influenza (HPAI) subtype H5N1 regions might be applied to the bird trophies covered by this rule.

Because we are defining “bird trophy” to further distinguish bird trophies from avian material intended for research purposes, we believe the distinction between materials of avian origin for research or educational purposes and bird trophies is sufficiently clear in the regulations. As the commenter noted, no confusion currently exists. We have made concerned importers familiar with our requirements through frequent communication and by providing specific guidance and advice, and we will continue to offer such assistance and technical information in the future.

We are making additional changes to the proposed regulations in this final rule.

The current heading of § 95.5 contains the phrase “Requirements for unrestricted entry” in addressing the articles to which the section refers. As § 95.5 does in fact require various conditions for the importation of untanned hides and skins and bird trophies, this heading as written is not clear and could create confusion. Therefore, for greater clarity and to ensure compliance with the regulations, we are removing the word “unrestricted” from the heading.

Similarly, the introductory language to § 95.5 contains the phrase “without restriction” in its discussion of those regulations contained in the section. As noted above, § 95.5 does require various conditions for the importation of untanned hides and skins and bird trophies. Therefore, for greater clarity and transparency, we are amending the introductory text of § 95.5 to state that untanned hides and skins and bird trophies may be imported into the United States if they meet the requirements of the section or if they are handled at an approved establishment as set forth in § 95.6. The importation of bird trophies, however, is also subject to the restrictions of § 95.30, as discussed below.

To address the specific risk of ruminant hides and skins from Mexico being infested with ticks carrying bovine babesiosis, we proposed to allow the importation of these hides and skins under proposed paragraph (b) of § 95.5. This paragraph contains several possible treatment options, all of which we have determined to be effective at eliminating ticks that could spread bovine babesiosis.

Proposed paragraph (b)(2) of § 95.5 would have allowed the importation of ruminant hides and skins from Mexico without further restriction if they have been frozen solid for 24 hours and are accompanied by a written statement from the owner attesting to that fact. To provide additional assurance that the freezing requirement has been met, we are changing proposed paragraph (b)(2) to require that an inspector, as defined in § 95.1, inspect the hides or skins to ensure they are frozen and verify, by a review of the available documentation provided by the shipper or importer attesting to the fact, that the hides or skins have been frozen solid for 24 hours. In addition, in order to provide maximum protection for the U.S. ruminant population, we are changing proposed paragraph (b)(2) to add a requirement that frozen hides and skins presented for importation under paragraph (b)(2) of the regulations also be free of ticks.

Proposed paragraph (b)(4) would have allowed ruminant hides and skins from Mexico to be imported if they were taken from cattle that were subjected to a tickicidal dip at a Mexican export facility 7 to 12 days prior to slaughter. In order to make clear which dips are approved for use, we have changed proposed paragraph (b)(4) to indicate that the ruminant hides and skins must be dipped in one of the permitted dips listed in § 72.13(b). This is consistent with our regulations in § 93.427 governing the importation of live cattle from Mexico for purposes other than immediate slaughter. In order to provide flexibility without incurring greater disease risk, we are also removing the requirement in proposed paragraph (b)(4) that the required tickicidal dip must take place at a Mexican export facility. Although the dip may be conducted at a Mexican export facility, it can be conducted successfully at any type of facility in Mexico, as long as the permitted dips listed in § 72.13(b) are used. In addition, in order to provide maximum protection for the U.S. ruminant population, we are changing proposed paragraph (b)(4) to add a requirement that hides and skins presented for importation under paragraph (b)(4) of the regulations also be free of ticks.

As noted above, the introductory paragraph of § 95.5 provides that any untanned hides or skins or bird trophies that do not meet the requirements of that section must be handled at an approved establishment as set forth in § 95.6. Section 95.6 addresses the importation of hides and skins which do not meet the conditions or requirements of § 95.5 by requiring, among other things, that such hides and skins be consigned to an approved establishment.

In the proposed rule, we neglected to include changes to § 95.6 to reflect the proposed changes in § 95.5. In this final rule, we are adding the words “bird trophies” to the title of § 95.6 and in the appropriate places throughout the text to indicate that the section applies to bird trophies. We are also adding END and ASF to the list of diseases in paragraph (c) whose dissemination the regulations are designed to prevent. We are taking this action to clarify the applicability of § 95.6 to the importation of bird trophies and untanned hides and skins.

The proposed introductory text of § 95.5 stated that bird trophies may be imported into the United States without restriction if they meet the requirements of that section. However, other requirements in part 95 also apply to bird trophies; specifically, § 95.30 requires bird trophies from areas where HPAI subtype H5N1 exists to be imported with a permit. To ensure that all relevant requirements are taken into account, the introductory text of § 95.5 in this final rule indicates that bird trophies must meet both the requirements of § 95.5 and be eligible for importation under § 95.30.

Therefore, for the reasons given in the proposed rule and in this document, we are adopting the proposed rule as a final rule, with the changes discussed in this document.

Executive Order 12866 and Regulatory Flexibility Act

This rule has been determined to be not significant for the purposes of Executive Order 12866 and, therefore, has not been reviewed by the Office of Management and Budget.

This rule amends the regulations in § 95.5 governing the requirements for importation of untanned hides and skins and adds import requirements for bird trophies. We are now requiring that untanned swine hides and skins from regions with ASF and bird trophies from regions with END meet the requirements of § 95.5 or go directly to an approved establishment upon importation into the United States and be subject to the requirements under § 95.6 of the regulations. We are also requiring that deer and other ruminant hides and skins imported into the United States from Mexico be subjected to one of several possible treatments that we view as effective in killing ticks that could transmit bovine babesiosis.

In accordance with the Regulatory Flexibility Act, we have analyzed the potential economic effects of this action on small entities.

We anticipate this rule will produce economic benefits by preventing the introduction of ASF, END, and bovine babesiosis, which could negatively affect the ability of the U.S. swine, poultry, and ruminant industries to export their products to international markets. The economic effects of END have been demonstrated by the recent 2002 and 2003 outbreak of the disease in the Western United States. END was diagnosed in both backyard poultry flocks and in commercial poultry in California, Nevada, Arizona, and Texas. Over the course of the outbreak, more than 18,000 premises were quarantined, and more than 3 million birds were depopulated. The eradication efforts cost taxpayers in excess of $180 million. In addition, over 30 international governments placed varying levels of import restrictions on poultry and poultry products from the United States as a result of this outbreak. These restrictions consisted primarily of bans on poultry and poultry products from the affected areas of the United States, resulting in approximately $121 million of direct total value of exports affected by these restrictions. Incursions of ASF and bovine babesiosis could cause similar serious economic damage to the U.S. swine and cattle industries. These three livestock industries were valued at more than $72 billion in 2000. Specifically, the U.S. cattle industry was valued at $67.1 billion, the swine industry at $4.3 billion, and the poultry industry at $1.2 billion (Agricultural Statistics, 2001).

U.S. imports of untanned swine hides and skins from ASF-affected regions are relatively meager (see table 1 below). The average value of such imports in 2000 and 2001, all of which came from sub-Saharan Africa, was $4,500, while the average value of all U.S. imports of untanned swine hides and skins during the same period was $980,500. There were no U.S. imports of untanned swine hides and skins from ASF-affected regions in 2002 and 2003. We can conclude, then, that the amount of untanned swine hides and skins coming from ASF-affected countries into the United States is insignificant and that the requirement that these hides and skins be consigned to an approved establishment is not likely to have a significant economic effect on U.S. importers of such hides and skins.

Table 1.-Value of U.S. imports of untanned swine hides and skins¹
Region | 2000 | 2001 | 2002 | 2003
Sub-Saharan Africa | $3,000 | $6,000 | 0 | 0
World | 1,292,000 | 669,000 | $1,401,000 | $868,000
¹ Fresh or salted untanned swine-hides - (Harmonized Schedule (HS) 4103900060). Import HS-10 Digit-U.S. International Trade Commission Commodities in Detail.
Source: Foreign Agricultural Service (FAS), U.S. Trade Internet System, Imports, Foreign Agriculture Trade of United States (FATUS) Web site: (http://www.fas.usda.gov/ustrade).

U.S. imports of untanned deer hides and skins from Mexico have also been limited. As shown in table 2, the value of U.S. imports of untanned deer hides and skins from Mexico in 2001 was $2,000, accounting for approximately 0.33 percent of the U.S. total for that year. There were no untanned deer hides and skins imported from Mexico in 2000, 2002, and 2003. The average value of total U.S. imports of untanned deer hides and skins in 2000 and 2001 was $700,000, and none were imported in 2002 or 2003. Since Mexico’s share of this market has been so small, we can conclude that this rule is not likely to have a significant economic effect on U.S. importers of untanned deer hides and skins.

Table 2.-Value of U.S. imports of untanned deer hides and skins¹
Region | 2000 | 2001 | 2002 | 2003
Mexico | 0 | $2,000 | 0 | 0
World | $805,000 | 604,000 | 0 | 0
¹ Fresh or dried or salted, but not tanned deer skins - (HS 4103900030). Import HS-10 Digit-USITC Commodities in Detail.
Source: FAS, U.S. Trade Internet System, Imports, FATUS. Web site: (http://www.fas.usda.gov/ustrade).

Other ruminant hides and skins that are currently being imported into the United States from Mexico and that will be subject to provisions of this rule include those of bovines, sheep or lambs, and chamoises. The latest available data on the value of U.S. imports from Mexico of such hides and skins and the percentages of Mexico’s market share for the years 1997 through 2001 are presented in tables 3 through 6.

Table 3.-Value of U.S. imports of untanned bovine hides, whole, raw
Region | 1997 | 1998 | 1999 | 2000 | 2001 | 5-year average
Mexico | $10,000 (0.5%) | 0 | $1,000 (0.1%) | 0 | $177,000 (15%) | 3.12%
World | 1,964,000 | $667,000 | 962,000 | $1,135,000 | 1,217,000 |
Source: United Nations (http://untrade.fas.usda.gov/untrade).

Table 4.-Value of U.S. imports of NES ¹ untanned bovine skins
Region | 1997 | 1998 | 1999 | 2000 | 2001 | 5-year average
Mexico | $142,000 (0.8%) | $704,000 (5%) | $372,000 (4%) | $63,000 (0.8%) | $59,000 (0.9%) | 2.3%
World | 17,733,000 | 14,974,000 | 10,123,000 | 8,319,000 | 6,768,000 |
¹ Not elsewhere specified.
Source: United Nations (http://untrade.fas.usda.gov/untrade).

Table 5.-Value of U.S. imports of sheep or lamb skins, raw, with wool on
Region | 1997 | 1998 | 1999 | 2000 | 2001 | 5-year average
Mexico | $486,000 (23%) | $59,000 (3.2%) | 0 | $13,000 (5.8%) | 0 | 6.4%
World | 2,116,000 | 1,828,000 | $256,000 | 226,000 | $764,000 |
Source: United Nations (http://untrade.fas.usda.gov/untrade).

Table 6.-Value of U.S. imports of untanned chamois hides
Region | 1997 | 1998 | 1999 | 2000 | 2001 | 5-year average
Mexico | $3,753,000 (27%) | $4,358,000 (29%) | $4,907,000 (34%) | $5,588,000 (38%) | $6,156,000 (48%) | 35.2%
World | 13,711,000 | 15,150,000 | 14,483,000 | 14,849,000 | 12,969,000 |
Source: United Nations (http://untrade.fas.usda.gov/untrade).

As the tables illustrate, with the exception of chamois hides (table 6), imports from Mexico account for a relatively small proportion of the total U.S. imports of these commodities. Over the 5-year period, an average of 3.12 percent of the untanned whole bovine hides, 2.3 percent of the NES untanned bovine skins, and 6.4 percent of the untanned sheep and lamb skins that were imported into the United States came from Mexico. Mexican chamois hides, however, did account for a significantly larger proportion of total imports, averaging 35.2 percent. Still, given the relatively small amounts of most of these commodities that Mexico provides and the fact that the procedures specified in this rule are already being required for entry of ruminant hides and skins into the United States in most cases, it appears unlikely that this rule will have a significant effect on any U.S. importers of untanned ruminant hides or skins from Mexico.

The United States Fish and Wildlife Service grants permits to individuals for the importation of bird trophies but does not require a separate permit for each trophy, whether imported as a finished product or as skin, bones, and feathers, and does not collect data on the number of mounts prepared by each permit holder. Therefore, reliable data on imported bird trophies from END-free regions are not available.

Economic Impact on Small Entities

Agencies are required to analyze the impacts of their regulations on small businesses and to use flexibility to provide regulatory relief when regulations create economic disparities between different-sized entities. Among the small entities that could be affected by this rule are importers of hides and skins. According to the 2002 Economic Census, in that year there were 260 establishments in the United States which primarily engaged in the wholesale distribution of untanned hides and skins. No data were available on how many of these entities were importers. According to the criteria used by the Small Business Administration (SBA), an entity in this category (North American Industrial Classification System [NAICS] 4225159) is considered small if it employs fewer than 100 persons. In 2002, these 260 entities employed a total of 1,983 paid employees, an average of approximately 7 per entity. It is likely, therefore, that the overwhelming majority of these establishments were small. As we have already noted, imports of the commodities potentially affected by this rule are relatively low, and we do not expect this rulemaking to have a significant economic impact on any U.S. entities, large or small. Moreover, any possible negative effects of this rule on U.S. importers of untanned ruminant or swine hides and skins, deer or other ruminant hides and skins from Mexico, and bird trophies would be far outweighed by the benefits to other small entities by preventing outbreaks of ASF, END, and bovine babesiosis. Over 99 percent of U.S. cattle producers and more than 88 percent of U.S. swine producers have annual receipts of $750,000 or less, which is the criterion by which such firms are designated as small entities by the SBA. The majority of meat packing plants (NAICS 311612 and NAICS 311613), which could be affected by an ASF or bovine babesiosis outbreak, and poultry processors (NAICS 311615), which could be affected by an END outbreak, are also small entities, the SBA threshold for these entities being 100 or fewer employees. The latest available data show that in 1997, more than 96 percent of meat packing firms were small. These small firms accounted for approximately 40 percent of the total value of the industry’s shipments. All of these small entities will benefit from this final rule by being protected from potential outbreaks of ASF, END, and bovine babesiosis.

Under these circumstances, the Administrator of the Animal and Plant Health Inspection Service has determined that this action will not have a significant economic impact on a substantial number of small entities.

Executive Order 12988

This final rule has been reviewed under Executive Order 12988, Civil Justice Reform. This rule: (1) Has no retroactive effect; and (2) does not require administrative proceedings before parties may file suit in court challenging this rule.

Paperwork Reduction Act

The information collection burden in this final rule includes 240 hours that were not included in the proposed rule. Specifically, the additional hours are for compliance with the inspection of ruminant hides and skins from Mexico, which were added to the coverage of the final rule. In accordance with the Paperwork Reduction Act of 1995 (44 U.S.C. 3501 et seq.), the information collection or recordkeeping requirements included in this final rule have been approved by the Office of Management and Budget (OMB) under OMB control number 0579-0307.

E-Government Act Compliance

The Animal and Plant Health Inspection Service is committed to compliance with the E-Government Act to promote the use of the Internet and other information technologies, to provide increased opportunities for citizen access to Government information and services, and for other purposes. For information pertinent to E-Government Act compliance related to this rule, please contact Mrs. Celeste Sickles, APHIS’ Information Collection Coordinator, at (301) 851-2908.

List of Subjects in 9 CFR Part 95

Animal feeds, Hay, Imports, Livestock, Reporting and recordkeeping requirements, Straw, Transportation.

Accordingly, we are amending 9 CFR part 95 as follows:

PART 95—SANITARY CONTROL OF ANIMAL BYPRODUCTS (EXCEPT CASINGS), AND HAY AND STRAW, OFFERED FOR ENTRY INTO THE UNITED STATES

1. The authority citation for part 95 continues to read as follows:

Authority: 7 U.S.C. 8301-8317; 21 U.S.C. 136 and 136a; 31 U.S.C. 9701; 7 CFR 2.22, 2.80, and 371.4.

§§ 95.7, 95.9, and 95.26 [Amended]

2. Sections 95.7, 95.9, and 95.26 are amended as follows:

a. Footnote 1 in § 95.7, footnote 1 in § 95.9, and footnote 2 in § 95.26 are redesignated as footnotes 3 through 5, respectively.

b. Redesignated footnote 3 in § 95.7 and redesignated footnote 4 in § 95.9 are revised to read as follows: “See footnote 2 in § 95.5.”

3. Section 95.1 is amended by adding, in alphabetical order, a new definition of bird trophy to read as follows:

§ 95.1 Definitions.

Bird trophy. A carcass or part of a carcass of a wild bird taken as game during a hunting expedition for the purpose of processing into taxidermy mounts for personal exhibition.

4. Section 95.5 is revised to read as follows:

§ 95.5 Untanned hides and skins and bird trophies; requirements for entry.

Untanned hides and skins and bird trophies¹ may be imported into the United States if they meet the requirements of this section or if they are handled at an approved establishment as set forth in § 95.6.

¹ The importation of bird trophies is also subject to restrictions under § 95.30.

(a) Untanned hides and skins. (1) Except for ruminant hides or skins from Mexico, any untanned hides or skins of ruminants from regions free of foot-and-mouth disease and rinderpest and any untanned hides or skins of swine from regions free of foot-and-mouth disease, rinderpest, and African swine fever may be imported without further restriction.

(2) Untanned ruminant hides or skins may be imported from any region without other restriction if an inspector determines, based on inspection and upon examination of a shipper or importer certificate, that they are hard dried hides or skins.

(3) Except for ruminant hides or skins from Mexico, untanned abattoir hides or skins of ruminants may be imported from any region without other restriction if the following requirements are met:

(i) The ruminants from which the hides or skins were taken have been slaughtered under national government inspection in a region² and in an abattoir in which is maintained an inspection service that meets the requirements and has been approved pursuant to part 327 of this title; and

² Names of these regions will be furnished upon request to the Animal and Plant Health Inspection Service, Veterinary Services, National Center for Import and Export, 4700 River Road Unit 38, Riverdale, Maryland 20737-1231.

(ii) The hides or skins are accompanied by a certificate bearing the seal of the proper department of that national government and signed by an official veterinary inspector of the region in which the ruminants were slaughtered. The certificate must state that the hides or skins were taken from ruminants slaughtered in an abattoir that meets the requirements of paragraph (a)(3)(i) of this section and that the hides or skins are free from anthrax, foot-and-mouth disease, and rinderpest.

(4) Untanned ruminant hides or skins from any region may be imported without other restriction if an inspector determines, based on inspection and upon examination of a shipper or importer certificate, that they have been pickled in a solution of salt containing mineral acid and packed in barrels, casks, or tight cases while still wet with such solution. The solution must be determined by the inspector to have a pH of less than or equal to 5.

(5) Untanned ruminant hides or skins from any region may be imported without other restriction if an inspector determines, based on inspection and upon examination of a shipper or importer certificate, that they have been treated with lime in such manner and for such period as to have obviously been processed, to have become dehaired, and to have reached the stage of preparation for immediate manufacture into products ordinarily made from rawhide.

(b) Ruminant hides and skins from Mexico. Ruminant hides and skins from Mexico may enter the United States without other restriction if:

(1) They have been subjected to any one of the treatments specified in paragraphs (a)(2), (a)(4), or (a)(5) of this section; or

(2) They are inspected and found to have been frozen solid for 24 hours by an inspector and are accompanied by a certificate attesting to that fact issued by the shipper or importer that is reviewed by the inspector, and are free from ticks; or

(3) They are free from ticks and are accompanied by a certificate issued by a full-time salaried veterinary officer of the Government of Mexico stating that they have been treated with an acaricide; or

(4) They are bovine hides taken from cattle that were subjected to a tickicidal dip in one of the permitted dips listed in § 72.13(b) of this chapter at a Mexican facility 7 to 12 days prior to slaughter, and are free from ticks.

(c) Bird trophies. Bird trophies from regions designated in § 94.6 of this subchapter as free of exotic Newcastle disease and free of HPAI subtype H5N1 may be imported without further restriction if accompanied by a certificate of origin issued by the national government of the region of export.

(Approved by the Office of Management and Budget under control numbers 0579-0015 and 0579-0307)

§ 95.6 [Amended]

5. Section 95.6 is amended as follows:

a. In the section heading, by removing the words “and skins” and adding the words “, skins, and bird trophies” in their place.

b. In the introductory text, by adding the words “or bird trophies” after the word “skins”.

c. In paragraph (a), by adding the words “or bird trophies” after the word “skins” each time it appears.

d. In paragraph (c), in the first sentence, by removing the words “and rinderpest” and adding the words “, rinderpest, African swine fever, and exotic Newcastle disease” after the words “foot-and-mouth disease” and, in the second sentence, by adding the words “or bird trophies” after the word “skins”.

Done in Washington, DC, this 4th day of December 2009.

Kevin Shea
Acting Administrator, Animal and Plant Health Inspection Service.

[FR Doc. E9-29798 Filed 12-14-09; 8:45 am]

BILLING CODE 3410-34-S